DEPARTMENT OF JUSTICE

Drug Enforcement Administration

[Docket No. DEA-392]

Bulk Manufacturer of Controlled Substances Application: Rhodes Technologies

ACTION: Notice; correction.

SUMMARY: The Drug Enforcement Administration (DEA) published a document in the Federal Register on August 15, 2018, concerning a notice of application that inadvertently did not include the controlled substance Fentanyl (9801).

Correction

In the Federal Register on August 15, 2018, in FR Doc No: 2018-17605 (83 FR 158) on pages 40567 and 40568, correct the table to include the following basic class of controlled substance:

Controlled substance | Drug code | Schedule
Fentanyl | 9801 | II

Dated: September 20, 2018.
John J. Martin,
Assistant Administrator.

[FR Doc. 2018-21352 Filed 10-1-18; 8:45 am]

BILLING CODE 4410-09-P